DEPARTMENT OF TRANSPORTATION

Federal Aviation Administration

14 CFR Part 39

[Docket No. 2001-NM-390-AD; Amendment 39-13510; AD 2004-05-15]

RIN 2120-AA64

Airworthiness Directives; Dassault Model Mystere-Falcon 900 Series Airplanes

AGENCY: Federal Aviation Administration, DOT.

ACTION: Final rule.

SUMMARY: This amendment adopts a new airworthiness directive (AD), applicable to certain Dassault Model Mystere-Falcon 900 series airplanes, that requires revising the Abnormal Procedures section of the airplane flight manual to advise the flightcrew to avoid use of certain display modes during approaches. This AD also requires replacing certain symbol generators of the Electronic Flight Information System (EFIS) with modified symbol generators. This action is necessary to prevent distraction of the flightcrew during a critical phase of flight due to certain EFIS displays flashing or going blank, which could result in loss of control of the airplane. This action is intended to address the identified unsafe condition.

DATES: Effective April 13, 2004.

The incorporation by reference of certain publications listed in the regulations is approved by the Director of the Federal Register as of April 13, 2004.

ADDRESSES: The service information referenced in this AD may be obtained from Dassault Falcon Jet, P.O. Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dassault Model Mystere-Falcon 900 series airplanes was published in the Federal Register on December 8, 2003 (68 FR 68299). That action proposed to require revising the Abnormal Procedures section of the airplane flight manual (AFM) to advise the flightcrew to avoid use of certain display modes during approaches. That action also proposed to require replacing certain symbol generators of the Electronic Flight Information System with modified symbol generators.

Comments

Interested persons have been afforded an opportunity to participate in the making of this amendment. No comments were submitted in response to the proposal or the FAA's determination of the cost to the public.

Explanation of Editorial Change

We have revised paragraph (a) of this final rule to specify that Temporary Change 86 to the Mystere-Falcon 900 AFM is dated July 3, 2001. The date was inadvertently omitted from the proposed AD.

Conclusion

After careful review of the available data, we have determined that air safety and the public interest require the adoption of the rule with the change described previously. The FAA has determined that this change will neither increase the economic burden on any operator nor increase the scope of the AD.

Cost Impact

We estimate that 93 airplanes of U.S. registry are affected by this AD.

It will take approximately 1 work hour per airplane to accomplish the required AFM revision, at an average labor rate of $65 per work hour. Based on these figures, the cost impact of this action on U.S. operators is estimated to be $6,045, or $65 per airplane.

It will take approximately 1 work hour per airplane to accomplish the required replacement, at an average labor rate of $65 per work hour. Required parts will be provided by the parts manufacturer at no charge. Based on these figures, the cost impact of this action on U.S. operators is estimated to be $6,045, or $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-05-15 Dassault Aviation: Amendment 39-13510. Docket 2001-NM-390-AD.

Applicability: Model Mystere-Falcon 900 series airplanes, certificated in any category; serial numbers (S/Ns) 1 through 168 inclusive, and 170 through 178 inclusive; equipped with an SPZ 8000 avionics system.

Compliance: Required as indicated, unless accomplished previously.

To prevent distraction of the flightcrew during a critical phase of flight due to certain Electronic Flight Information System (EFIS) displays flashing or going blank, which could result in loss of control of the airplane, accomplish the following:

Airplane Flight Manual Revision

(a) Within 30 days after the effective date of this AD, revise the Abnormal Procedures section of the Mystere-Falcon 900 Airplane Flight Manual (AFM) to include the information in Temporary Change (TC) No. 86, dated July 3, 2001. That TC advises the flightcrew that certain EFIS displays may blink or blank due to overload of certain symbol generators, and advises the flightcrew to avoid using certain display modes during approaches to decrease the load on the display processor. Operate the airplane per the limitations and procedures in the TC.

Note 1: The requirements of paragraph (a) may be done by inserting a copy of TC No. 86 in the AFM. When this TC has been included in general revisions of the AFM, the general revisions may be inserted in the AFM, and TC No. 86 may be removed from the AFM, provided the relevant information in the general revision is identical to that in TC No. 86.

Replacement of Symbol Generators

(b) Within 18 months after the effective date of this AD, do paragraphs (b)(1) and (b)(2) of this AD, per Dassault Service Bulletin F900-281, Revision 1, dated October 3, 2001, except that it is not necessary to complete the compliance card.

(1) Replace all SG-820 symbol generators having part numbers (P/Ns) 7007356-901 or -902, or P/Ns 7007356-903 or -904 without Honeywell Modification S; with symbol generators having a P/N and a Honeywell modification level listed in the “NEW P/N” column of the table under paragraph 3.A. of the service bulletin.

(2) Replace all MG-820 symbol generators having P/Ns 7009289-801 or -802, or P/Ns 7009289-803 or -804 without Honeywell Modification V, with symbol generators having a P/N and a Honeywell modification level listed in the “NEW P/N” column of the table under paragraph 3.B. of the service bulletin.

Parts Installation

(c) As of the effective date of this AD, no person may install a symbol generator having a P/N and a modification level listed in the “OLD P/N” column of the tables under paragraphs 3.A. and 3.B. of Dassault Service Bulletin F900-281, Revision 1, dated October 3, 2001.

Alternative Methods of Compliance

(d) In accordance with 14 CFR 39.19, the Manager, International Branch, ANM-116, Transport Airplane Directorate, FAA, is authorized to approve alternative methods of compliance for this AD.

Incorporation by Reference

(e) The actions shall be done in accordance with Temporary Change (TC) No. 86, dated July 3, 2001, to the Mystere-Falcon 900 Airplane Flight Manual; and Dassault Service Bulletin F900-281, Revision 1, dated October 3, 2001. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 2: The subject of this AD is addressed in French airworthiness directive 2001-466-033(B), dated October 3, 2001.

Effective Date

(f) This amendment becomes effective on April 13, 2004.

Issued in Renton, Washington, on February 25, 2004.
Kalene C. Yanamura,
Acting Manager, Transport Airplane Directorate, Aircraft Certification Service.

[FR Doc. 04-4938 Filed 3-8-04; 8:45 am]

BILLING CODE 4910-13-P